COMMITTEE FOR THE IMPLEMENTATION OF TEXTILE AGREEMENTS

Determination Under the Textile and Apparel Commercial Availability Provision of the Dominican Republic-Central America-United States Free Trade Agreement (CAFTA-DR Agreement)

August 15, 2007.

AGENCY: The Committee for the Implementation of Textile Agreements (CITA).

ACTION: Determination to add two products in unrestricted quantities to Annex 3.25 of the CAFTA-DR Agreement

EFFECTIVE DATE: August 20, 2007.

SUMMARY: The Committee for the Implementation of Textile Agreements (CITA) has determined that two woven fabrics, as specified below, are not available in commercial quantities in a timely manner in the CAFTA-DR region. The products will be added to the list in Annex 3.25 of the CAFTA-DR Agreement in unrestricted quantities.

FOR FURTHER INFORMATION CONTACT: Richard Stetson, Office of Textiles and Apparel, U.S. Department of Commerce, (202) 482-2582.

FOR FURTHER INFORMATION ON-LINE: http://web.ita.doc.gov/tacgi/CaftaReqTrack.nsf.Reference number: 23.2007.06.18.Fabric.Governmentofthe DominicanRepublic.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

Background:

The CAFTA-DR Agreement provides a list in Annex 3.25 for fabrics, yarns, and fibers that the Parties to the CAFTA-DR Agreement have determined are not available in commercial quantities in a timely manner in the territory of any Party. Articles that otherwise meet the rule of origin to qualify for preferential treatment are not disqualified because they contain one of the products on the Annex 3.25 list.

The CAFTA-DR Agreement provides that this list may be modified pursuant to Article 3.25(4)-(5), when the President of the United States determines that a fabric, yarn, or fiber is not available in commercial quantities in a timely manner in the territory of any Party. The CAFTA-DR Act states that the President will make a determination on whether additional fabrics, yarns, and fibers are available in commercial quantities in a timely manner in the territory of any Party.

The CAFTA-DR Act requires the President to establish procedures governing the submission of a request and providing opportunity for interested entities to submit comments and supporting evidence before a commercial availability determination is made. In Presidential Proclamations 7987 and 7996, the President delegated to CITA the authority under section 203(o)(4) of the CAFTA-DR Act for modifying the Annex 3.25 list. On March 21, 2007, CITA published final procedures it would follow in considering requests to modify the Annex 3.25 list (72 FR 13256) (Final Procedures).

On June 18, 2007, CITA received a Request from The Government of the Dominican Republic for a commercial availability determination under the CAFTA-DR for 29 fabrics. On June 20, 2007, in accordance with CITA's Final Procedures, CITA notified interested parties of the Request and requested that responses with offers to supply be submitted by July 2, 2007, and rebuttals to responses be submitted by July 9, 2007. At the same time, the Request was posted on the dedicated CAFTA-DR commercial availability Web site.

In accordance with section 203(o)(4)(C)(iii)(II) of the CAFTA-DR Act, and section 8(c)(2) of the Final Procedures, as no interested entity submitted a response objecting to two of the fabrics of the request or expressed an ability to supply the subject products, CITA has determined to add the two specified fabrics to the list in Annex 3.25 of the CAFTA-DR Agreement.

The subject fabrics are added to the list in Annex 3.25 of the CAFTA-DR Agreement in unrestricted quantities. A revised list has been published on-line.

Specifications of the two woven fabrics:

HTS Subheading: | 5211.31.0020
Fiber content: | 75% cotton, 25% nylon woven fabric
Yarn: |
warp yarn size: | 35.5/1 metric cotton
filling yarn size: | 35.5/1 metric (slub yarn of cotton wrapped around a 45 metric filament nylon)
| 41 warp ends/cm.
| 22 filling picks/cm
weight: | 223 grams per square meter
width: | 147 cm
weave type: | plain
Finish: | piece dyed

(Variance allowance of up to three percent for yarn size, thread count, fabric weight, and fabric width for the above fabric)

HTS Subheading: | 5801.32
Fiber content: | 86% polyester 14% nylon woven corduroy fabric
Yarn: |
warp yarn size: | 60 metric filament polyester
filling yarn size: | 60 metric filament polyester and a 56 metric filament nylon
| 28 warp ends/cm
| 63 filling picks/cm.
weight: | 250 grams per square meter
width: | 150 cm.
weave type: | corduroy - 3 wales per cm.
Finish: | piece dyed

(Variance allowance of up to three percent for yarn size, thread count, fabric weight, and fabric width for the above fabric)

R. Matthew Priest,
Chairman, Committee for the Implementation of Textile Agreements.

[FR Doc. E7-16425 Filed 8-17-07; 11:17 am]

BILLING CODE 3510-DS-S